DEPARTMENT OF THE TREASURY

Office of Foreign Assets Control

Sanctions Actions Pursuant to an Executive Order Issued on January 23, 1995, Titled “Prohibiting Transactions With Terrorists Who Threaten To Disrupt the Middle East Peace Process”

AGENCY: Office of Foreign Assets Control, Treasury.

ACTION: Notice.

SUMMARY: The Department of the Treasury's Office of Foreign Assets Control (OFAC) is removing the names of one individual and one entity, whose property and interests in property have been blocked pursuant to an executive order issued on January 23, 1995, titled “Prohibiting Transactions with Terrorists Who Threaten to Disrupt the Middle East Peace Process,” from the list of Specially Designated Nationals and Blocked Persons (SDN List).

DATES: OFAC's actions described in this notice are effective on June 1, 2017.

FOR FURTHER INFORMATION CONTACT: Associate Director for Global Targeting, tel.: 202-622-2420, Assistant Director for Sanctions Compliance & Evaluation, tel.: 202-622-2490, Assistant Director for Licensing, tel.: 202-622-2480, Office of Foreign Assets Control, or Chief Counsel (Foreign Assets Control), tel.: 202-622-2410, Office of the General Counsel, Department of the Treasury (not toll free numbers).

SUPPLEMENTARY INFORMATION:

Electronic Availability

The SDN List and additional information concerning OFAC sanctions programs are available from OFAC's Web site (www.treas.gov/ofac).

Notice of OFAC Actions

The following persons are removed from the SDN List, effective as of June 1, 2017.

Individual

1. NIDAL, Abu (a.k.a. AL BANNA, Sabri Khalil Abd Al Qadir); DOB May 1937; alt. DOB May 1940; POB Jaffa, Israel; Founder and Secretary General of ABU NIDAL ORGANIZATION (individual) [SDT].

Entity

1. ABU NIDAL ORGANIZATION (a.k.a. ARAB REVOLUTIONARY BRIGADES; a.k.a. ARAB REVOLUTIONARY COUNCIL; a.k.a. BLACK SEPTEMBER; a.k.a. FATAH REVOLUTIONARY COUNCIL; a.k.a. REVOLUTIONARY ORGANIZATION OF SOCIALIST MUSLIMS; a.k.a. “ANO”) [SDT].

Dated: June 1, 2017.
Andrea Gacki,
Acting Director, Office of Foreign Assets Control.

[FR Doc. 2017-11656 Filed 6-5-17; 8:45 am]

BILLING CODE 4810-AL-P